DEPARTMENT OF THE INTERIOR

[516 DM 1-15]

National Environmental Policy Act Revised Implementing Procedures

AGENCY: Department of the Interior.

ACTION: Extension of time.

SUMMARY: This notice is for the sole purpose of granting the public an extension of time to review our August 28, 2000, publication of the above named procedures. The publication appears at 65 FR 52211-52241. The Department of the Interior will now accept comments from the public through close of business on November 13, 2000.

Willie R. Taylor,
Director, Office of Environmental Policy and Compliance.

[FR Doc. 00-26998 Filed 10-19-00; 8:45 am]

BILLING CODE 4310-RG-M